DEPARTMENT OF THE INTERIOR

Fish and Wildlife Service

[FWS-R9-MB-2009-N175; 91200-1231-WEBB-M3]

Proposed Information Collection; National Mourning Dove Hunter Attitude Survey on Nontoxic Shot

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by October 19, 2009.

ADDRESSES: Send your comments on the IC to Hope Grey, Information Collection Clearance Officer, Fish and Wildlife Service, MS 222-ARLSQ, 4401 North Fairfax Drive, Arlington, VA 22203 (mail); or hope_grey@fws.gov (e-mail).

FOR FURTHER INFORMATION CONTACT: To request additional information about this IC, contact Hope Grey by mail or e-mail (see ADDRESSES) or by telephone at (703) 358-2482.

SUPPLEMENTARY INFORMATION:

I. Abstract

The Migratory Bird Treaty Act (MBTA) (16 U.S.C. 703 et seq.) prohibits the unauthorized take of migratory birds and authorizes the Secretary of the Interior to regulate take of migratory birds in the United States. Under this authority, we control the hunting of migratory game birds through regulations in 50 CFR part 20. On January 1, 1991, we banned lead shot for hunting waterfowl and coots in the United States. Wildlife managers and policymakers at all levels are becoming increasingly concerned about the exposure of mourning doves to spent lead shot.

The mourning dove is the most-hunted migratory game bird species. We plan to ask OMB for approval to sponsor a National Mourning Dove Hunter Attitude Survey on Nontoxic Shot. The Missouri Department of Conservation will conduct the survey under the auspices of the Association of Fish and Wildlife Agencies and the Service. Information from this survey will help us make nontoxic shot policy decisions and develop appropriate informational and educational programs if new regulations are necessary.

Under the Migratory Bird Harvest Information Program (HIP) (50 CFR 20.20), each State annually provides a list of all migratory bird hunters licensed by the State (OMB Control Number 1018-0023). We will use these lists to randomly select mourning dove hunters to participate in the proposed survey. We plan to collect:

(1) Demographic information (e.g., respondent age, gender, income, education, and occupation).

(2) Information on hunting experiences (e.g, hunter type, distance traveled to hunt, type of ammunition, frequency of hunting, and positive and negative aspects).

(3) Perceptions of the benefits and concerns about the use of nontoxic shot.

(4) Perceptions of the benefits and concerns about nontoxic shot regulations.

II. Data

OMB Control Number: None. This is a new collection.

Title: National Mourning Dove Hunter Attitude Survey on Nontoxic Shot.

Service Form Number(s): 3-2386.

Type of Request: New.

Affected Public: Mourning dove hunters.

Respondent's Obligation: Voluntary.

Frequency of Collection: One time.

Total Annual Number of Responses: 23,400.

Completion Time per Response: 7 minutes.

Total Annual Burden Hours: 2,730 hours.

III. Request for Comments

We invite comments concerning this IC on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: August 11, 2009
Hope Grey,
Information Collection Clearance Officer, Fish and Wildlife Service.

FR Doc. E9-19697 Filed 8-17-09; 8:45 am

BILLING CODE 4310-55-S